NATIONAL SCIENCE FOUNDATION

Proposal Review Panel for Computing Communication Foundations; Notice of Meeting

In accordance with the Federal Advisory Committee Act (Pub. L. 92-463, as amended), the National Science Foundation announces the following meeting:

Name: Site Visit, Proposal Panel Review for Expeditions in Computing Program (#1192).

Date/Time: October 31, 2012 7 p.m.-9 p.m.; November 1, 2012 8 a.m.-8 p.m.; November 2, 2012 8:30 a.m.-3 p.m.

Place: University of California-San Diego, La Jolla, CA.

Type of Meeting: Partial Closed.

Contact Person: Sankar Basu, National Science Foundation, 4201 Wilson Boulevard, Room 1115, Arlington, VA 22230. Telephone: (703) 292-8010.

Purpose of Meeting: To assess the progress of the EIC Award: 1029783, “Collaborative Research: Underdesigned and Opportunistic Computing Machines”, and to provide advise and recommendations concerning further NSF support for the Center.

Agenda

Wednesday, October 31, 2012

7 p.m. to 9 p.m.: Closed

Site Team and NSF Staff meets to discuss Site Visit materials, review process and charge.

Thursday, November 1, 2012

8 a.m. to 1 p.m.: Open

Presentations by Awardee Institution, faculty staff and students, to Site Team and NSF Staff. Discussions and question and answer sessions.

1 p.m.-8 p.m.: Closed

Draft report on education and research activities.

Friday, November 2, 2012

8:30 a.m.-noon: Open

Response presentations by Awardee Institution faculty staff to Site Team and NSF Staff. Discussions and question and answer sessions.

Noon to 3 p.m.: Closed

Complete written site visit report with preliminary recommendations.

Reason for Closing: The proposals being reviewed include information of a proprietary or confidential nature, including technical information; financial data, such as salaries; and personal information concerning individuals associated with the proposals. These matters are exempt under 5 U.S.C. 552b(c), (4) and (6) of the Government in the Sunshine Act.

Dated: October 2, 2012.
Susanne Bolton,
Committee Management Officer.

[FR Doc. 2012-24650 Filed 10-4-12; 8:45 am]

BILLING CODE 7555-01-P